DEPARTMENT OF COMMERCE

International Trade Administration

[C-570-926]

Sodium Nitrite From the People's Republic of China: Final Results of the Expedited Second Five Year (Sunset) Review of the Countervailing Duty Order

AGENCY: Enforcement and Compliance, International Trade Administration, Department of Commerce.

SUMMARY: The Department of Commerce (Commerce) finds that revocation of the countervailing duty (CVD) order on sodium nitrite from the People's Republic of China (China) would be likely to lead to the continuation or recurrence of a countervailable subsidy at the levels indicated in the “Final Results of Sunset Review” section of this notice.

DATES: Applicable June 11, 2019.

FOR FURTHER INFORMATION CONTACT: Leo Ayala or Jacqueline Arrowsmith, Office VII, AD/CVD Operations, Enforcement and Compliance, International Trade Administration, U.S. Department of Commerce, 1401 Constitution Avenue NW, Washington, DC 20230; telephone: (202) 482-3945 or (202) 482-5255, respectively.

SUPPLEMENTARY INFORMATION:

Background

On August 27, 2008, Commerce published the CVD order on sodium nitrite from China.¹ On February 5, 2019, Commerce published the notice of initiation for the second sunset review of the CVD Order, pursuant to section 751(c)(2) of the Tariff Act of 1930, as amended (the Act).² Subsequently, Commerce received a notice of intent to participate from Chemtrade Chemicals US LLC (Chemtrade), a domestic interested party, within the deadline specified in 19 CFR 351.218(d)(1)(i).³ Chemtrade claimed interested party status under section 771(9)(C) of the Act, as a producer of a domestic like product in the United States. In addition, Commerce received a complete substantive response to the notice of initiation from the petitioner within the 30-day deadline specified in 19 CFR 351.218(d)(3)(i).⁴

¹ See Sodium Nitrite from the People's Republic of China: Countervailing Duty Order, 73 FR 50595 (August 27, 2008) (CVD Order).

² See Initiation of Five-Year (Sunset) Reviews, 84 FR 1705 (February 5, 2019).

³ See Chemtrade's Letter, “Sodium Nitrite from China: Notice of Intent to Participate,” dated February 21, 2019.

⁴ See Chemtrade's Letter, “Sodium Nitrite from Germany and China: Substantive Response to Notice of Initiation of Five-Year (Sunset) Review of the Antidumping Duty Orders and Countervailing Duty Order,” dated March 7, 2019.

Commerce did not receive a response from the Government of the People's Republic of China or any respondent interested parties. On March 20, 2019, Commerce notified the U.S. International Trade Commission that it did not receive an adequate substantive response from respondent interested parties.⁵ As a result, pursuant to 19 CFR 351.218(e)(1)(ii)(C)(2), Commerce is conducting an expedited (120-day) sunset review of the CVD Order.

⁵ See Letter from Commerce to the ITC, “Sunset Review Initiated on February 5, 2019 Applicable to January 2019,” dated March 20, 2019.

Scope of the Order

The merchandise covered by this order is sodium nitrite in any form, at any purity level. A full description of the scope of the CVD Order is contained in the Issues and Decision Memorandum, which is hereby adopted by this notice.⁶

⁶ See Memorandum, “Issues and Decision Memorandum for the Final Results of the Expedited Second Sunset Review of the Countervailing Duty Order on Sodium Nitrite from the People's Republic of China,” dated concurrently with and adopted by this notice (Issues and Decision Memorandum).

Analysis of Comments Received

All issues raised in this sunset review are addressed in the Issues and Decision Memorandum. The issues discussed include the likelihood of continuation or recurrence of a countervailable subsidy and the net countervailable subsidy rate likely to prevail if the CVD Order were revoked. A list of the topics discussed in the Issues and Decision Memorandum is attached to this notice as an Appendix. The Issues and Decision Memorandum is a public document and is on file electronically via Enforcement and Compliance's Antidumping and Countervailing Duty Centralized Electronic Service System (ACCESS). ACCESS is available to registered users at http://access.trade.gov and in the Central Records Unit, Room B-8024 of the main Commerce building. In addition, a complete version of the Issues and Decision Memorandum can be accessed at http://enforcement.trade.gov/frn/. The signed Issues and Decision Memorandum and the electronic version of the Issues and Decision Memorandum are identical in content.

Final Results of Sunset Review

Pursuant to sections 752(b)(1) and (3) of the Act, Commerce determines that revocation of the CVD Order would be likely to lead to continuation or recurrence of countervailable subsidies at the rates listed below:

Manufacturer/exporter | Net countervailable subsidy rate (percent)
Shanxi Jiaocheng Hongxing Chemical Co., Ltd. (Shanxi Jiaocheng) | 169.01
Tianjin Soda Plant Tianjin Port Free Trade Zone Pan Bohai International Trading Co., Ltd. (Tianjin Soda Plant) | 169.01
All Others | 169.01

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Commerce is issuing and publishing these final results and this notice in accordance with sections 751(c), 752(b), and 777(i)(1) of the Act and 19 CFR 351.218(e)(1)(ii)(C)(2).

Dated: June 5, 2019.
Jeffrey I. Kessler,
Assistant Secretary for Enforcement and Compliance.

Appendix

List of Topics Discussed in the Decision Memorandum

I. Summary

II. Background

III. Scope of the Order

IV. Discussion of the Issues

V. Discussion of the Issues

(1) Likelihood of Continuation of a Countervailable Subsidy

(2) Net Countervailable Subsidy Likely to Prevail

(3) Nature of the Subsidy

[FR Doc. 2019-12282 Filed 6-10-19; 8:45 am]

BILLING CODE 3510-DS-P